COUNCIL ON ENVIRONMENTAL QUALITY

The National Environmental Policy Act

AGENCY: Council on Environmental Quality.

ACTION: Notice of Availability, “A Citizen's Guide to the National Environmental Policy Act—Having Your Voice Heard.”

SUMMARY: The Council on Environmental Quality (CEQ) has published “A Citizen's Guide to the NEPA—Having Your Voice Heard.” The guide explains the National Environmental Policy Act (NEPA), and how it is implemented, as well as how people outside the Federal government—individual citizens, private sector permit applicants, members of organized groups, and representatives of Tribal, State, or local governments—can better participate in the Federal environmental impact assessment process. This informational guide contains no new requirements.

ADDRESSES: Electronic or facsimile requests are preferred given that Federal agencies often experience mail delays as a result of security screening. Submit requests for the guide via electronic mail to hgreczmiel@ceq.eop.gov with the subject line “NEPA Citizen's Guide.” Fax requests to “NEPA Citizen's Guide” at (202) 456-0753. Mail requests to NEPA Citizen's Guide, Attn.: Associate Director for NEPA Oversight, 722 Jackson Place, NW., Washington, DC 20503.

FOR FURTHER INFORMATION CONTACT: Horst Greczmiel at (202) 395-5750.

SUPPLEMENTARY INFORMATION: CEQ established a NEPA task force and is implementing its recommendations to modernize the implementation of NEPA and make the NEPA process more effective and efficient. This guide responds to public requests and comments received during the development of the “National Environmental Policy Act Task Force Report to the CEQ—Modernizing NEPA Implementation,” and from participants in the four NEPA Regional Roundtables that reviewed the report. More information about the task force is posted at http://ceq.eh.doe.gov/ntf. CEQ requested public comments on the proposed guide on February 21, 2007, 72 FR 7876. Those comments are posted at http://ceq.eh.doe.gov/ntf/implementation.html.

The “A Citizen's Guide to the NEPA—Having Your Voice Heard” describes the NEPA process and suggests ways in which citizens and non-Federal entities can participate in Federal agencies' implementation of NEPA. The final guide, revised in response to public comments, includes a discussion of the environmental policies set out in section 101 of NEPA, clarifying specific points in the process when public comments and input are effective, explaining variations in planning processes for Federal highways, and distinguishing between required and optional implementation.

The procedural steps in analyzing proposed Federal actions through the three levels of analysis provided in the CEQ Regulations Implementing the Procedural Requirements of the National Environmental Policy Act (40 CFR parts 1500-1508)—the categorical exclusion, the environmental assessment, and the environmental impact statement—are described. The guide also advises how to obtain assistance from CEQ and other government agencies, in addition to available options to those concerned whether an agency is properly implementing its NEPA responsibilities.

Dated: February 4, 2008.
James L. Connaughton,
Chairman, Council on Environmental Quality.

[FR Doc. E8-2554 Filed 2-11-08; 8:45 am]

BILLING CODE 3125-W8-P